DEPARTMENT OF TRANSPORTATION

Federal Railroad Administration

49 CFR Part 222

[Docket No. FRA-2025-0090]

RIN 2130-AD19

Administrative Updates to the Use of Locomotive Horns at Public Highway-Rail Grade Crossings Regulations

AGENCY: Federal Railroad Administration (FRA), U.S. Department of Transportation (DOT).

ACTION: Final rule.

SUMMARY: This rule makes administrative updates to FRA's use of locomotive horns at public highway-rail grade crossings regulations, including updating addresses in those regulations.

DATES: Effective July 1, 2025.

FOR FURTHER INFORMATION CONTACT: Veronica Chittim, Senior Attorney, Office of Safety Law, Office of the Chief Counsel, FRA, 1200 New Jersey Avenue SE, Washington, DC 20590, (telephone 202-480-3410), veronica.chittim@dot.gov; or Lucinda Henriksen, Senior Advisor, Office of Railroad Safety, FRA, (telephone 202-657-2842), lucinda.henriksen@dot.gov.

SUPPLEMENTARY INFORMATION:

I. Background

Consistent with the deregulatory agenda of President Donald J. Trump and Secretary of Transportation Sean P. Duffy, which seeks to unleash America's economic prosperity without compromising transportation safety, and as described in more detail below, this rule is making miscellaneous, administrative updates to its regulations in 49 CFR part 222. These changes include updating addresses that are no longer valid.

II. Section-by-Section Analysis

Part 222

§ 222.9 Definitions

FRA is amending the definition of Grade Crossing Inventory Form in 49 CFR 222.9 to update the web address from www.fra.dot.gov to https://railroads.dot.gov/.

§ 222.11 What are the penalties for failure to comply with this part?

FRA is amending § 222.11 by replacing references to specific penalty amounts with general references to the minimum civil monetary penalty, ordinary maximum civil monetary penalty, and aggravated maximum civil monetary penalty. FRA is adding language to this section referring readers to 49 CFR part 209, appendix A, where FRA will continue to specify statutorily provided civil penalty amounts updated for inflation. FRA is also updating the web address from www.fra.dot.gov to https://railroads.dot.gov/.

§ 222.39 How is a quiet zone established?

FRA is amending § 222.39(b)(3) to remove the certified mail requirement, to require electronic submittal of the application to FRA's Grade Crossing and Trespasser Outreach Division, and to allow for electronic service of the application to other parties as well as electronic submission of comments on the application to FRA's Grade Crossing and Trespasser Outreach Division.

§ 222.43 What notices and other information are required to create or continue a quiet zone?

FRA is amending § 222.43(a) to remove the certified mail notification requirements, to require electronic service of notifications required in this section to FRA's Grade Crossing and Trespasser Outreach Division, and to allow for electronic service of the notifications required in this section to other parties.

FRA is also amending § 222.43(d)(2)(ii)(A) to update the web address from http://www.fra.dot.gov/us/content/1337 to https://safetydata.fra.dot.gov/quiet/login.aspx.

§ 222.47 What periodic updates are required?

FRA is amending §§ 222.47(a)(1) and (b)(1) to remove the certified mail requirements, to require electronic service to FRA's Grade Crossing and Trespasser Outreach Division, and to allow for electronic service of the notices to other parties. FRA is also amending §§ 222.47(a)(2) and (b)(2) to require public authorities to submit their updated Crossing Inventory forms to FRA's Grade Crossing and Trespasser Outreach Division, rather than to the Associate Administrator.

§ 222.51 Under what conditions will quiet zone status be terminated?

FRA is amending §§ 222.51(d)(2) and (e)(1) to remove the certified mail requirements, to require electronic service of the notices to FRA's Grade Crossing and Trespasser Outreach Division, and to allow for electronic service of the notices to other parties.

Appendix D to Part 222 Determining Risk Levels

FRA is amending the last sentence of 49 CFR part 222, appendix D, under the heading “Nationwide Significant Risk Threshold,” to update the web address from www.fra.dot.gov to https://railroads.dot.gov/.

III. Public Participation

Under the Administrative Procedure Act (APA), an agency may waive the normal notice and comment procedures if the action is a rule of agency organization, procedure, or practice. 5 U.S.C. 553(b)(A). Additionally, under the APA, an agency may waive notice and comment procedures when the agency for good cause finds that notice and public procedure are impracticable, unnecessary, or contrary to the public interest. 5 U.S.C. 553(b)(B). Since this final rule merely makes miscellaneous, administrative updates to the CFR, such as updating web addresses, it would not benefit from public comment, and notice and comment is not necessary.

IV. Regulatory Impact and Notices

A. Executive Order (E.O.) 12866 (Regulatory Planning and Review) and DOT Regulatory Policies and Procedures

FRA has evaluated this final rule in accordance with E.O. 12866, Regulatory Planning and Review (58 FR 51735, Oct. 4, 1993), and DOT Order 2100.6B, Policies and Procedures for Rulemaking (Mar. 10, 2025). The Office of Information and Regulatory Affairs within the Office of Management and Budget (OMB) determined that this final rule is not a significant regulatory action under section 3(f) of E.O. 12866.

Because this final rule makes administrative changes such as replacing references to specific penalty amounts with general references to the minimum and maximum civil monetary penalties, ordinary maximum civil monetary penalty, and aggravated maximum civil monetary penalty, referring readers to the CFR, updating web addresses, and replacing certified mail requirements with electronic submission and service requirements, this final rule imparts no additional burdens on regulated entities. Moreover, this rule will provide some qualitative benefits to regulated entities and the U.S. government by updating the language of part 222 to direct regulated entities to the appropriate cites in the CFR and the appropriate web address. Additionally, this rule allows electronic methods of submissions of documents, which will expedite the speed at which documents are delivered while also reducing costs that would otherwise exist from having to physically print, mail, and process documents.

B. E.O. 14192 (Unleashing Prosperity Through Deregulation)

E.O. 14192, Unleashing Prosperity Through Deregulation (90 FR 9065, Jan. 31, 2025), requires that for “each new [E.O. 14192 regulatory action] issued, at least ten prior regulations be identified for elimination.” ¹ Implementation guidance for E.O. 14192 issued by OMB (Memorandum M-25-20, March 26, 2025) defines two different types of E.O. 14192 actions: an E.O. 14192 deregulatory action, and an E.O. 14192 regulatory action.²

¹ Executive Office of the President. Executive Order 14192 of January 31, 2025. Unleashing Prosperity Through Deregulation. 90 FR 9065-9067. Feb. 6, 2025.

² Executive Office of the President. Office of Management and Budget. Guidance Implementing Section 3 of Executive Order 14192, Titled “Unleashing Prosperity Through Deregulation.” Memorandum M-25-20. Mar. 26, 2025.

An E.O. 14192 deregulatory action is defined as “an action that has been finalized and has total costs less than zero.” This final rule is expected to have total costs less than zero, and therefore it would be considered an E.O. 14192 deregulatory action.

C. Regulatory Flexibility Act and E.O. 13272

The Regulatory Flexibility Act of 1980 ((RFA), 5 U.S.C. 601 et seq.) and E.O. 13272 (67 FR 53461, Aug. 16, 2002) require an agency to prepare and make available to the public a regulatory flexibility analysis that describes the effect of the rule on small entities (i.e., small businesses, small organizations, and small governmental jurisdictions). A regulatory flexibility analysis is not required when a rule is exempt from notice and comment rulemaking. FRA has determined that this rule is exempt from notice and comment rulemaking. Therefore, a regulatory flexibility analysis is not required for this rule.

D. Paperwork Reduction Act

This rule offers regulatory flexibilities, and it contains no new information collection requirements under the Paperwork Reduction Act of 1995 (44 U.S.C. 3501-3520), therefore, a submission to OMB is not required. The recordkeeping and reporting requirements already contained in part 222 became effective when they were approved by OMB on November 9, 2022. The OMB Control No. is 2130-0560 and the expiration date is November 30, 2025. However, this final rule will decrease the paperwork burden in §§ 222.39, 222.43 and 222.47 by amending the certified mail requirement, to allow electronic service of applications to required parties. All other paperwork requirements within part 222 remain the same. By removing this reporting requirement, the currently approved burden reported within §§ 222.39, 222.43 and 222.47 of 2,559 hours will decrease by 46.50 hours for a revised estimate of 2,512.50 hours.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This final rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This final rule will not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211, Actions Concerning Regulations that Significantly Affect Energy Supply, Distribution, or Use (66 FR 28355, May 22, 2001), requires Federal agencies to prepare a Statement of Energy Effects for any “significant energy action.” FRA has evaluated this rule in accordance with E.O. 13211 and determined that this rule is not a “significant energy action” within the meaning of E.O. 13211.

I. E.O. 13175 (Tribal Consultation)

FRA has evaluated this final rule in accordance with the principles and criteria contained in E.O. 13175, Consultation and Coordination with Indian Tribal Governments, (Nov. 6, 2000). The final rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 prohibits Federal agencies from engaging in any standards or related activities that create unnecessary obstacles to the foreign commerce of the U.S. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the U.S.

List of Subjects in 49 CFR Part 222

Administrative practice and procedure, Penalties, Railroad safety, Reporting and recordkeeping requirements.

The Final Rule

In consideration of the foregoing, FRA amends part 222 of chapter II, subtitle B of title 49, Code of Federal Regulations as follows:

PART 222—USE OF LOCOMOTIVE HORNS AT PUBLIC HIGHWAY-RAIL GRADE CROSSINGS

1. The authority citation for part 222 continues to read as follows:

Authority: 49 U.S.C. 20103, 20107, 20153, 21301, 21304; 28 U.S.C. 2461 note; and 49 CFR 1.89.

2. In § 222.9, revise the definition of Grade Crossing Inventory Form to read as follows:

§ 222.9 Definitions.

* * * * *

Grade Crossing Inventory Form means the U.S. DOT National Highway-Rail Grade Crossing Inventory Form, FRA Form F6180.71. This form is available on FRA's website at https://railroads.dot.gov/.

* * * * *

3. Revise § 222.11 to read as follows:

§ 222.11 What are the penalties for failure to comply with this part?

(a) Any person who violates any requirement of this part or causes the violation of any such requirement is subject to a civil penalty of at least the minimum civil monetary penalty and not more than the ordinary maximum civil monetary penalty per violation. However, penalties may be assessed against individuals only for willful violations, and a penalty not to exceed the aggravated maximum civil monetary penalty per violation may be assessed, where:

(1) A grossly negligent violation, or a pattern of repeated violations, has created an imminent hazard of death or injury to persons; or

(2) A death or injury has occurred. See 49 CFR part 209, appendix A.

(b) Each day a violation continues shall constitute a separate offense. Any person who knowingly and willfully falsifies a record or report required by this part may be subject to criminal penalties under 49 U.S.C. 21311. FRA's website at https://railroads.dot.gov/ contains a schedule of civil penalty amounts used in connection with this part.

4. Revise § 222.39(b)(3) to read as follows:

§ 222.39 How is a quiet zone established?

* * * * *

(b) * * *

(3)(i) The public authority application for FRA approval of the proposed quiet zone shall be provided to: all railroads operating over the public highway-rail grade crossings within the quiet zone; the highway or traffic control or law enforcement authority having jurisdiction over vehicular traffic at grade crossings within the quiet zone; the landowner having control over any private highway-rail grade crossings within the quiet zone; the State agency responsible for highway and road safety; and the State agency responsible for grade crossing safety. A copy of the public authority application shall also be submitted electronically to the Grade Crossing and Trespasser Outreach Division of FRA's Office of Railroad Safety (FRA Grade Crossing and Trespasser Outreach Division).

(ii) Except as provided in paragraph (b)(3)(iii) of this section, any party that receives a copy of the public authority application may submit comments on the public authority application to the FRA Grade Crossing and Trespasser Outreach Division electronically during the 60-day period after the date on which the public authority application was sent.

(iii) If the public authority application for FRA approval contains written statements from each railroad operating over the public highway-rail grade crossings within the quiet zone, the highway or traffic control authority or law enforcement authority having jurisdiction over vehicular traffic at grade crossings within the quiet zone, the State agency responsible for grade crossing safety, and the State agency responsible for highway and road safety stating that the railroad, vehicular traffic authority and State agencies have waived their rights to provide comments on the public authority application, the 60-day comment period under paragraph (b)(3)(ii) of this section shall be waived.

* * * * *

5. Revise § 222.43(a) and (d)(2)(ii)(A) to read as follows:

§ 222.43 What notices and other information are required to create or continue a quiet zone?

(a)(1) The public authority shall provide written notice of its intent to create a New Quiet Zone or New Partial Quiet Zone under § 222.39 or to implement new SSMs or ASMs within a Pre-Rule Quiet Zone or Pre-Rule Partial Quiet Zone under § 222.41(c) or (d) of this part. Such notification shall be provided to: All railroads operating over the public highway-rail grade crossings within the quiet zone; the State agency responsible for highway and road safety; and the State agency responsible for grade crossing safety.

(2) The public authority shall provide written notification to continue a Pre-Rule Quiet Zone or Pre-Rule Partial Quiet Zone under § 222.41 or to continue an Intermediate Quiet Zone or Intermediate Partial Quiet Zone under § 222.42. Such notification shall be provided to: All railroads operating over the public highway-rail grade crossings within the quiet zone; the highway or traffic control or law enforcement authority having jurisdiction over vehicular traffic at grade crossings within the quiet zone; the landowner having control over any private highway-rail grade crossings within the quiet zone; the State agency responsible for highway and road safety; and the State agency responsible for grade crossing safety. A copy of the written notification to continue a Pre-Rule Quiet Zone or Pre-Rule Partial Quiet Zone under § 222.41 or to continue an Intermediate Quiet Zone or Intermediate Partial Quiet Zone under § 222.42 shall also be submitted electronically to FRA's Grade Crossing and Trespasser Outreach Division.

(3) The public authority shall provide written notice of the establishment of a quiet zone under § 222.39 or § 222.41. Such notification shall be provided to: All railroads operating over the public highway-rail grade crossings within the quiet zone; the highway or traffic control or law enforcement authority having jurisdiction over vehicular traffic at grade crossings within the quiet zone; the landowner having control over any private highway-rail grade crossings within the quiet zone; the State agency responsible for highway and road safety; and the State agency responsible for grade crossing safety. A copy of the written notice of quiet zone establishment under § 222.39 or § 222.41 shall also be submitted electronically to FRA's Grade Crossing and Trespasser Outreach Division.

* * * * *

(d) * * *

(2) * * *

(ii) * * *

(A) If the Notice contains a specific reference to § 222.39(a)(2)(i), 222.39(a)(2)(ii), 222.39(a)(3), 222.41(a)(1)(ii), 222.41(a)(1)(iii), 222.41(a)(1)(iv), 222.41(b)(1)(ii), 222.41(b)(1)(iii), or 222.41(b)(1)(iv), it shall include a copy of the FRA webpage that contains the quiet zone data upon which the public authority is relying (https://safetydata.fra.dot.gov/quiet/login.aspx).

* * * * *

6. Revise § 222.47 to read as follows:

§ 222.47 What periodic updates are required?

(a) Quiet zones with SSMs at each public crossing. This paragraph (a) addresses quiet zones established pursuant to §§ 222.39(a)(1) and 222.41(a)(1)(i) and (b)(1)(i) (quiet zones with an SSM implemented at every public crossing within the quiet zone) of this part. Between 4½ and 5 years after the date of the quiet zone establishment notice provided by the public authority under § 222.43, and between 4½ and 5 years after the last affirmation under this section, the public authority must:

(1) Electronically affirm in writing to FRA's Grade Crossing and Trespasser Outreach Division that the SSMs implemented within the quiet zone continue to conform to the requirements of appendix A of this part. Copies of such affirmation must be provided to the parties identified in § 222.43(a)(3); and

(2) Electronically provide to FRA's Grade Crossing and Trespasser Outreach Division an up-to-date, accurate, and complete Grade Crossing Inventory Form for each public highway-rail grade crossing, private highway-rail grade crossing, and pedestrian crossing within the quiet zone.

(b) Quiet zones which do not have a supplementary safety measure at each public crossing. This paragraph (b) addresses quiet zones established pursuant to §§ 222.39(a)(2) and (a)(3), 222.39(b), 222.41(a)(1)(ii), (a)(1)(iii), and (a)(1)(iv), and 222.41(b)(1)(ii), (b)(1)(iii), and (b)(1)(iv) (quiet zones which do not have an SSM at every public crossing within the quiet zone). Between 2½ and 3 years after the date of the quiet zone establishment notice provided by the public authority under § 222.43, and between 2½ and 3 years after the last affirmation under this section, the public authority must:

(1) Electronically affirm in writing to FRA's Grade Crossing and Trespasser Outreach Division that all SSMs and ASMs implemented within the quiet zone continue to conform to the requirements of appendices A and B of this part or the terms of the Quiet Zone approval. Copies of such notification must be provided to the parties identified in § 222.43(a)(3); and

(2) Electronically provide to FRA's Grade Crossing and Trespasser Outreach Division an up-to-date, accurate, and complete Grade Crossing Inventory Form for each public highway-rail grade crossing, private highway-rail grade crossing, and pedestrian grade crossing within the quiet zone.

7. Revise § 222.51(d)(2) and (e)(1) to read as follows:

§ 222.51 Under what conditions will quiet zone status be terminated?

* * * * *

(d)(2) A public authority may withdraw its quiet zone status by providing written notice of termination to all railroads operating the public highway-rail grade crossings within the quiet zone, the highway or traffic control authority or law enforcement authority having control over vehicular traffic at the crossings within the quiet zone, the landowner having control over any private crossings within the quiet zone, the State agency responsible for grade crossing safety, and the State agency responsible for highway and road safety. A copy of the written notice of quiet zone termination shall also be submitted electronically to the Grade Crossing and Trespasser Outreach Division of FRA's Office of Railroad Safety (Grade Crossing and Trespasser Outreach Division).

* * * * *

(e)(1) In the event that a quiet zone is terminated under the provisions of this section, it shall be the responsibility of the public authority immediately to provide written notification of the termination to all railroads operating over public highway-rail grade crossings within the quiet zone, the highway or traffic control authority or law enforcement authority having control over vehicular traffic at the crossings within the quiet zone, the landowner having control over any private crossings within the quiet zone, the State agency responsible for grade crossing safety, and the State agency responsible for highway and road safety. A copy of the written notice of quiet zone termination shall also be submitted electronically to FRA's Grade Crossing and Trespasser Outreach Division.

* * * * *

8. In appendix D, under the heading “Nationwide Significant Risk Threshold”, revise the last sentence to read as follows:

Appendix D to Part 222—Determining Risk Levels

* * * * *

Nationwide Significant Risk Threshold

* * * For the most recent value of the Nationwide Significant Risk Threshold, please visit FRA's public website at https://railroads.dot.gov/.

* * * * *

Issued in Washington, DC.
Kyle D. Fields,
Chief Counsel.

[FR Doc. 2025-12147 Filed 6-27-25; 4:15 pm]

BILLING CODE 4910-06-P